ENVIRONMENTAL PROTECTION AGENCY

40 CFR Part 300

[EPA-HQ-SFUND-1987-0002; FRL-8784-3]

National Oil and Hazardous Substances Pollution Contingency Plan; National Priorities List

AGENCY: Environmental Protection Agency.

ACTION: Notice of Partial Deletion of the Griffiss Air Force Base Superfund Site from the National Priorities List.

SUMMARY: The Environmental Protection Agency (EPA) Region 2 announces the deletion of approximately 2,900 acres of property (identified in more detail below) of the Griffiss Air Force Base Superfund Site (Site) located in Rome, New York, from the National Priorities List (NPL). The NPL, promulgated pursuant to section 105 of the Comprehensive Environmental Response, Compensation, and Liability Act of 1980, as amended (CERCLA), is an appendix of the National Oil and Hazardous Substances Pollution Contingency Plan (NCP). This partial deletion pertains to the soil and groundwater of 23 parcels at the Site. All other properties at Griffiss Air Force Base (GAFB) will remain on the NPL and are not being considered for deletion as part of this action. The EPA and the State of New York, through the New York State Department of Environmental Conservation, have determined that, with regard to the specified properties at the GAFB Site (i.e., the soil and groundwater beneath), either no significant threat to public health or the environment exists or all appropriate response actions, other than operation, maintenance, and five-year reviews, have been implemented such that they no longer pose a significant threat to public health or the environment.

DATES: Effective Date: This action is effective March 20, 2009.

ADDRESSES: EPA has established a docket for this action under Docket Identification No. EPA-HQ-SFUND-1987-0002. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

U.S. Environmental Protection Agency, Region 2, Superfund Records Center, 290 Broadway, 18th Floor, New York, NY 10007-1866, Phone: (212) 637-4308, Hours: Monday to Friday from 9 a.m. to 5 p.m., and

Griffiss Business and Technology Park, Information Repository/Administrative File, 153 Brooks Road, Rome, NY 13441, (315) 356-0810, Hours: Please call to determine hours of operation and whether an appointment is needed.

FOR FURTHER INFORMATION CONTACT: Douglas M. Pocze, Remedial Project Manager, U.S. Environmental Protection Agency, Region 2, Emergency and Remedial Response Division, 290 Broadway, New York, NY, 10007-1866, (212) 637-4432, e-mail: pocze.doug@epa.gov.

SUPPLEMENTARY INFORMATION: The properties to be deleted from the NPL (23 parcels) are listed below:

| Acres
1. Property A1A—Airfield | 1324.45
2. Building 750—Former Air Force Special Investigations | 4.07
3. Central Heating Plant | 17.78
4. Parcel F1 | 61.40
5. Parcel F2 | 88.37
6. Electrical Power Substation | 3.20
7. Parcel F3A | 75.99
8. Parcel F3B | 14.04
9. Parcel F4A | 107.59
10. Parcel F4C | 56.96
11. Parcel F6A | 52.20
12. Parcel F7NR | 52.09
13. Parcel F7R | 223.75
14. Parcel F8 Housing | 69.22
15. Parcel F9A | 135.25
16. Parcel F9B | 64.99
17. Parcel F10A | 11.05
18. Parcel F10B | 275.82
19. Parcel F11A Housing | 152.56
20. Parcel F11C | 4.24
21. Parcel F11D | 45.23
22. Parcel F12A | 41.82
23. MGC—Mohawk Glen Club | 15.13

These properties were identified in the Notice of Intent for Partial Deletion for this Site published in the Federal Register on December 19, 2008. Additional information can also be found on the Air Force's Web site at http://www.griffiss.com. In the Notice of Intent for Partial Deletion, EPA requested public comment on the proposed NPL partial deletion by January 20, 2009. No public comments were received and therefore EPA has no information which leads it to believe that the partial deletion action is inappropriate.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: February 19, 2009.
George Pavlou,
Acting Regional Administrator, Region 2.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

Appendix B—[Amended]

2. Table 2 of Appendix B to part 300 is amended by revising the entry under “Griffiss Air Force Base”, “New York” to read as follows:

Appendix B to Part 300—National Priorities List

* * * * *

Table 2—Federal Facilities Section
State | Site name | City/county | Notes (a)
* * * * * * *
NY | Griffiss Air Force Base | Rome | P
* * * * * * *

(a) P = Sites with partial deletion(s).

[FR Doc. E9-6154 Filed 3-19-09; 8:45 am]

BILLING CODE 6560-50-P